DEPARTMENT OF TRANSPORTATION

Federal Aviation Administration

14 CFR Part 73

[Docket No. FAA-2014-0640; Airspace Docket No. 14-ACE-4]

RIN 2120-AA66

Modification of Restricted Areas R-4501A, R-4501B, R-4501C, R-4501D, R-4501F, and R-4501H; Fort Leonard Wood, MO

AGENCY: Federal Aviation Administration (FAA), DOT.

ACTION: Final rule.

SUMMARY: This action modifies the designated altitudes of restricted area R-4501B, Fort Leonard Wood, MO, by raising the restricted area ceiling from 1,500 feet mean seal level (MSL) in the north and 2,200 feet MSL in the south to a single altitude of 4,300 feet MSL across the entire restricted area. This action also adds exclusions to the boundaries of R-4501C, R-4501F, and R-4501H to address overlapping restricted areas. Finally, this action makes administrative changes to the R-4501A and R-4501B titles and to R-4501A-D, R-4501F, and R-4501H using agency information to standardize the format and information describing these restricted areas of the Fort Leonard Wood restricted area complex.

DATES: Effective date 0901 UTC, August 20, 2015.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On September 25, 2014, the FAA published in the Federal Register a notice of proposed rulemaking to modify the designated altitudes of restricted area R-4501B to establish a single ceiling altitude, add exclusions to the boundaries of R-4501C, R-4501F, and R-4501H to address overlapping restricted areas, and make administrative changes to the R-4501A and R-4501B titles and the R-4501A-D, R-4501F, and R-4501H using agency information to standardize the format and information describing these restricted areas (79 FR 57484). The R-4501 restricted area complex amendments support the military training activities conducted at Fort Leonard Wood, MO.

Interested parties were invited to participate in this rulemaking effort by submitting written comments on the proposal. No comments were received.

The Rule

The FAA is amending 14 CFR part 73 by amending the R-4501B designated altitudes to establish a single ceiling altitude; adding exclusions to the R-4501C, R-4501F, and R-4501H boundaries to prevent overlapped restricted areas being active at the same time; and making administrative changes to the R-4501A and R-4501B titles and the R-4501A-D, R-4501F, and R-4501H using agency information to standardize the format and information. The changes are described below.

The R-4501B designated altitudes is changed from “The area north of a line between lat. 37°42′51″ N., long. 92°06′48″ W.; and lat. 37°42′53″ N., long. 92°09′18″ W., surface to 1,500 feet MSL. The area south of this line, surface to 2,200 feet MSL.” to “Surface to 4,300 feet MSL” for the entire restricted area.

The R-4501C, R-4501F, and R-4501H boundaries are changed by adding exclusions to prevent overlapping restricted areas from being active in the same airspace at the same time. R-4501C adds “excluding R-4501B when active”; R-4501F adds “excluding R-4501A, R-4501B, and R-4501C when active”; and R-4501H adds “excluding R-4501B when active”.

The R-4501A title is changed by removing the word “West” in the title to read “R-4501A Fort Leonard Wood, MO” and the R-4501B title is changed by removing the word “East” in the title to read “R-4501B Fort Leonard Wood, MO”. Additionally, the R-4501A, R-4501B, R-4501C, and R-4501D using agency information is changed by prefacing the existing using agency with “U.S. Army.” Lastly, the R-4501F and R-4501H using agency is changed from “U.S. Army, Headquarters U.S. Army Training Center, Fort Leonard Wood, MO” to “U.S. Army, Commanding General, Fort Leonard Wood, MO.” These administrative changes standardize the format and information describing the restricted areas contained in the Fort Leonard Wood, MO, R-4501 complex.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it modifies the restricted area airspace at Fort Leonard Wood, MO, to enhance aviation safety and accommodate essential U.S. Army training requirements.

Environmental Review

This special use airspace action consists of minor adjustments to boundaries and raising the altitude of portions of the airspace, which is considered a minor adjustment to existing airspace in accordance with FAA Order 1050.1E, Environmental Impacts: Policies and Procedures, paragraph 401p(5). Since there will be no changes in type or number of operations, the action is not expected to cause any significant environmental impacts that warrant preparation of an environmental assessment.

List of Subjects in 14 CFR Part 73

Airspace, Prohibited areas, Restricted areas.

Adoption of Amendment

In consideration of the foregoing, the Federal Aviation Administration amends 14 CFR part 73 as follows:

PART 73—SPECIAL USE AIRSPACE

1. The authority citation for part 73 continues to read as follows:

Authority: 49 U.S.C. 106(f),106(g), 40103, 40113, 40120; E.O. 10854, 24 FR 9565, 3 CFR, 1959-1963 Comp., p. 389.

§ 73.45 [Amended]

2. Section 73.45 is amended as follows:

R-4501A Fort Leonard Wood West, MO [Removed]

R-4501B Fort Leonard Wood East, MO [Removed]

R-4501A Fort Leonard Wood, MO [New]

Boundaries. Beginning at lat. 37°41′06″ N., long. 92°09′18″ W.; to lat. 37°38′15″ N., long. 92°09′18″ W.; to lat. 37°37′35″ N., long. 92°10′38″ W.; to lat. 37°36′15″ N., long. 92°10′38″ W.; to lat. 37°36′15″ N., long. 92°15′22″ W.; to lat. 37°39′28″ N., long. 92°15′22″ W.; to lat. 37°41′07″ N., long. 92°14′24″ W.; to the point of beginning.

Designated altitudes. Surface to but not including 2,200 feet MSL.

Time of designation. 0630-2100 Monday-Saturday; other times by NOTAM issued at least 24 hours in advance.

Controlling agency. FAA, Kansas City ARTCC.

Using agency. U.S. Army, Commanding General, Fort Leonard Wood, MO.

R-4501B Fort Leonard Wood, MO [New]

Boundaries. Beginning at lat. 37°43′00″ N., long. 92°06′56″ W.; to lat. 37°42′11″ N., long. 92°06′15″ W.; to lat. 37°39′07″ N., long. 92°06′18″ W.; to lat. 37°38′15″ N., long. 92°09′18″ W.; to lat. 37°43′02″ N., long. 92°09′18″ W.; to the point of beginning.

Designated altitudes. Surface to 4,300 feet MSL.

Time of designation. 0630-2200 Monday-Saturday; other times by NOTAM issued at least 24 hours in advance.

Controlling agency. FAA, Kansas City ARTCC.

Using agency. U.S. Army, Commanding General, Fort Leonard Wood, MO.

R-4501C Fort Leonard Wood, MO [Amended]

Boundaries. Beginning at lat. 37°41′00″ N., long. 92°16′11″ W.; to lat. 37°41′26″ N., long. 92°10′16″ W.; to lat. 37°40′16″ N., long. 92°07′06″ W.; to lat. 37°38′20″ N., long. 92°06′56″ W.; to lat. 37°36′07″ N., long. 92°10′28″ W.; to lat. 37°35′22″ N., long. 92°15′32″ W.; to the point of beginning, excluding R-4501B when active.

Designated altitudes. From 2,200 feet MSL to 5,000 feet MSL.

Time of designation. 0900-2100 Monday; 0900-1600 Tuesday-Friday; other times by NOTAM issued at least 24 hours in advance.

Controlling agency. FAA, Kansas City ARTCC.

Using agency. U.S. Army, Commanding General, Fort Leonard Wood, MO.

R-4501D Fort Leonard Wood, MO [Amended]

Boundaries. Beginning at lat. 37°41′00″ N., long. 92°16′11″ W.; to lat. 37°41′26″ N., long. 92°10′16″ W.; to lat. 37°40′16″ N., long. 92°07′06″ W.; to lat. 37°38′20″ N., long. 92°06′56″ W.; to lat. 37°36′07″ N., long. 92°10′28″ W.; to lat. 37°35′22″ N., long. 92°15′32″ W.; to the point of beginning.

Designated altitudes. From 5,000 feet MSL to 12,000 feet MSL.

Time of Designation. 0900-2100 Monday; 0900-1600 Tuesday-Friday; other times by NOTAM issued at least 24 hours in advance.

Controlling agency. FAA, Kansas City ARTCC.

Using agency. U.S. Army, Commanding General, Fort Leonard Wood, MO.

* * * * *

R-4501F Fort Leonard Wood, MO [Amended]

Boundaries. Beginning at lat. 37°41′00″ N., long. 92°09′05″ W.; to lat. 37°41′00″ N., long. 92°10′53″ W.; to lat. 37°43′02″ N., long. 92°12′11″ W.; to lat. 37°43′10″ N., long. 92°08′46″ W.; to the point of beginning, excluding R-4501A, R-4501B, and R-4501C when active.

Designated altitudes. Surface to 3,200 feet MSL.

Time of designation. 0700-1800 daily; other times by NOTAM issued at least 24 hours in advance.

Controlling agency. FAA, Kansas City ARTCC.

Using agency. U.S. Army, Commanding General, Fort Leonard Wood, MO.

R-4501H Fort Leonard Wood, MO [Amended]

Boundaries. Beginning at lat. 37°42′50″ N., long. 92°07′21″ W.; to lat. 37°44′00″ N., long. 92°07′16″ W.; to lat. 37°44′45″ N., long. 92°05′41″ W.; to lat. 37°44′50″ N., long. 92°04′49″ W.; to lat. 37°46′15″ N., long. 92°05′31″ W.; to lat. 37°47′45″ N., long. 92°06′01″ W.; to lat. 37°48′00″ N., long. 92°06′01″ W.; to lat. 37°48′00″ N., long. 92°02′41″ W.; thence south and along the Big Piney River and Reservation boundary; to lat. 37°42′30″ N., long. 92°04′06″ W.; to lat. 37°42′15″ N., long. 92°06′06″ W.; to the point of beginning, excluding R-4501B when active.

Designated altitudes. Surface to 3,200 feet MSL.

Time of designation. 1500-1600 Wednesday; other times by NOTAM.

Controlling agency. FAA, Kansas City ARTCC.

Using agency. U.S. Army, Commanding General, Fort Leonard Wood, MO.

Issued in Washington, DC on May 15, 2015.
Gary A. Norek,
Manager, Airspace Policy and Regulations Group.

[FR Doc. 2015-12627 Filed 5-22-15; 8:45 am]

BILLING CODE 4910-13-P